DEPARTMENT OF COMMERCE

United States Patent and Trademark Office

Submission for OMB Review; Comment Request; “Clearance for the Collection of Qualitative Feedback on Agency Service Delivery”

The United States Patent and Trademark Office (USTPO) will submit to the Office of Management and Budget (OMB) for clearance the following proposal for collection of information under the provisions of the Paperwork Reduction Act.

Agency: United States Patent and Trademark Office, Commerce.

Title: Clearance for the Collection of Qualitative Feedback on Agency Service Delivery.

OMB Control Number: 0651-0080.

Form Number(s):

• None.

Type of Request: Regular.

Number of Respondents: 42,500 responses per year. This notice shows that an item (ForeSee Surveys) included in this collection during the 60 day notice has been removed from the collection; it is included in a newly proposed collection (USPTO Websites Customer Satisfaction Surveys).

Average Hours per Response: The USPTO estimates that it will take between 3 minutes (.05 hours) to 120 minutes (2 hours), depending upon the instrument used.

Burden Hours: 4,808.33 hours per year.

Cost Burden: $0.

Needs and Uses: The Agency will collect, analyze, and interpret information gathered to identify strengths and weaknesses of current services. Based on feedback received, the Agency will identify changes needed to improve programs and services. The solicitation of feedback will target areas such as: timeliness, appropriateness, accuracy of information, courtesy, efficiency of service delivery, and resolution of issues with service delivery. The USPTO is committed to hearing feedback from its customers. Responses will be assessed to identify service areas in need of improvement. If this information is not collected, then the Agency will miss opportunities to obtain vital feedback from their customers and stakeholders on ways to improve their program and services.

These information collections will not result in any new system of records and will not ask questions of a sensitive nature.

Affected Public: Individuals or households; Businesses or other for-profits; not-for-profit institutions.

Frequency: On occasion.

Respondent's Obligation: Voluntary.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0080 comment” in the subject line of the message.

• Mail: Marcie Lovett, Director, Records and Information Governance Division, Office of the Chief Technology Officer, United States Patent and Trademark Office, P.O. Box 1450, Alexandria, VA 22313-1450.

Written comments and recommendations for the proposed information collection should be sent on or before September 14, 2018 to Nicholas A. Fraser, OMB Desk Officer, via email to Nicholas_A._Fraser@omb.eop.gov, or by fax to 202-395-5167, marked to the attention of Nicholas A. Fraser.

Marcie Lovett,
Director, Records and Information Governance Division, Office of the Chief Technology Officer, United States Patent and Trademark Office.

[FR Doc. 2018-17510 Filed 8-14-18; 8:45 am]

BILLING CODE 3510-16-P